DEPARTMENT OF AGRICULTURE

Natural Resources Conservation Service

7 CFR Part 1469

Conservation Security Program

AGENCY: Natural Resources Conservation Service, USDA.

ACTION: Proposed rule; notice of meetings; correction.

SUMMARY: This document corrects the summary information to a notice of meetings associated with its Conservation Security Program (CSP) proposed rule published in the Federal Register on January 14, 2004. This document changes the date that the Natural Resources Conservation Service (NRCS) will accept comments to its proposed rule from March 1, 2004, to March 2, 2004. This change clarifies that the public comment closing date for the CSP proposed rule is March 2, 2004, as published in the Federal Register on January 2, 2004.

FOR FURTHER INFORMATION CONTACT: Diane Heard, Office of the Deputy Chief for Programs, telephone: (202) 720-3587; fax: (202) 720-6559; email: diane.heard@usda.gov.

Correction

In FR Doc. 04-728, in the issue of January 14, 2004, make the following correction to the SUMMARY. On page 2083, in the third column, in the fifth and sixth lines, correct “March 1, 2004” to read “March 2, 2004”.

Dated: January 14, 2004.
Helen V. Huntington,
Federal Register Liaison, Natural Resources Conservation Service.

[FR Doc. 04-1122 Filed 1-20-04; 8:45 am]

BILLING CODE 3410-16-M